OFFICE OF PERSONNEL MANAGEMENT

Submission for OMB Review; Comment Request for Revision of a Currently Approved Expiring Information Collection: SF 87 and SF 87A

AGENCY: Office of Personnel Management.

ACTION: Notice.

SUMMARY: In accordance with the Paperwork Reduction Act of 1995 (Pub. L. 104-13, May 22, 1995), this notice announces that the Office of Personnel Management (OPM) has submitted to the Office of Management and Budget a request for revision of a currently approved information collection for Standard Forms 87 and 87A, Fingerprint Charts. These forms are used to obtain fingerprint and other data needed to check the Federal Bureau of Investigation's (FBI) fingerprint files. Such checks are required by Executive Order 10450, Security Requirements for Government Employment, issued April 27, 1953, and required or authorized under other authorities, on applicants to and employees of the Federal government. The SF 87 is used by OPM and the SF 87A is used by other agencies having a special agreement with OPM and the FBI.

Approximately 225,000 SF 87 and SF 87A's are completed annually. This is a revised figure which reflects the impact of automation on the processing of fingerprint checks. We estimate that it takes approximately five minutes to complete each form. The annual burden is 18,750 hours.

For copies of this proposal, contact Mary Beth Smith-Toomey at (202) 606-2150, FAX (202) 418-3251, or by E-mail at mbtoomey@opm.gov. Please include a mailing address with your request.

DATES: Comments on this proposal should be received on or before September 10, 2001.

ADDRESSES: Send or deliver written comments to:

Richard A. Ferris, Associate Director, Investigations Service, U.S. Office of Personnel Management, 1900 E Street, NW, Room 5416, Washington, DC 20415-4000

and

Joseph Lackey, OPM Desk Officer, Office of Information and Regulatory Affairs, Office of Management and Budget, New Executive Office Building, NW, Room 10235, Washington, DC 20503.

FOR FURTHER INFORMATION CONTACT: Rasheedah I. Ahmad, Program Analyst, Investigations Service, Phone: (202)606-7983, FAX: (202)606-2390.

Office of Personnel Management.
Kay Coles James,
Director.

[FR Doc. 01-19960 Filed 8-8-01; 8:45 am]

BILLING CODE 6325-40-P